SMALL BUSINESS ADMINISTRATION

[Disaster Declaration #16876 and #16877; Texas Disaster Number TX-00591]

Presidential Declaration Amendment of a Major Disaster for the State of Texas

AGENCY: U.S. Small Business Administration.

ACTION: Amendment 5.

SUMMARY: This is an amendment of the Presidential declaration of a major disaster for the State of Texas (FEMA-4586-DR), dated 02/19/2021.

Incident: Severe Winter Storms.

Incident Period: 02/11/2021 through 02/21/2021.

DATES: Issued on 06/24/2021.

Physical Loan Application Deadline Date: Filing Period for counties listed below ends on 08/23/2021.

Economic Injury (EIDL) Loan Application Deadline Date: Filing Period for counties listed below ends on 03/24/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Texas, dated 2/19/2021, is hereby amended to include the counties listed below. Please contact the SBA disaster assistance customer service center by email at disastercustomerservice@sba.gov or by phone at 1-800-659-2955 to request an application. Applications for physical damages may be filed until 08/23/2021 and applications for economic injury may be file until 03/24/2022.

Primary Counties (Physical Damage and Economic Injury Loans): Kerr, Lamar, Shackelford.

Contiguous Counties (Economic Injury Loans Only):

Oklahoma: Choctaw.

All other information in the original declaration remains unchanged.

(Catalog of Federal Domestic Assistance Number 59008)

James Rivera,
Associate Administrator for Disaster Assistance.

[FR Doc. 2021-14038 Filed 6-30-21; 8:45 am]

BILLING CODE 8026-03-P